DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of April 2006.

In order for an affirmative determination to be made and a certification of eligibility to apply for directly-impacted (primary) worker adjustment assistance to be issued, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Affirmative Determinations for Worker Adjustment Assistance and Alternative Trade Adjustment Assistance

The following certifications have been issued; the date following the company name and location of each determination references the impact date for all workers of such determination.

The following certifications have been issued. The requirements of (a)(2)(A) (increased imports) of section 222 have been met, and section 246(a)(3)(A)(ii) of the Trade Act have been met.

TA-W-58,802; F. Schumacher and Company, Richburg Distribution Facility, Richburg, SC: February 8, 2005.

TA-W-58,802A; F. Schumacher and Company, New York, NY: February 8, 2005.

TA-W-58,888; General Motors, Lansing Metal Center, Lansing, MI: February 6, 2005.

TA-W-59,136; Cranston Print Works Company, Design and Engraving Division, Cranston, RI: March 6, 2005.

TA-W-59,147; Springs Global US, Inc., Piedmont Plants Division, Piedmont, AL: April 3, 2005.

TA-W-59,166; Guidecraft, Inc., Kaplan Manufacturing Division, Winthrop, MN: April 5, 2005.

TA-W-59,173; Russell Corporation, Spalding/Huffy Sports, Site Staffing, Sussex, WI: April 6, 2005.

TA-W-59,181; Syngenta, Inc., Chop Protection Cold Creek Site Div., Bucks, AL: April 10, 2005.

TA-W-59,184; John F. Turner and Company, Modesto, CA: April 7, 2005.

TA-W-59,192; Sauer-Danfoss, Propel Div., LaSalle, IL: April 11, 2005.

TA-W-58,397; J.S. McCarthy Co., Augusta, ME: November 15, 2004.

TA-W-58,996; EneFco USA, Inc., Restricted to Workers Producing Felt Glides, Auburn, ME: March 1, 2005.

TA-W-59,011; Race Quip, Inc., Columbus, OH: March 13, 2005.

TA-W-59,062; Machined Products Co., Lancaster, PA: March 12, 2005.

TA-W-59,017; Ford Motor Co., Atlanta Assembly Plant, Hapeville, GA: March 13, 2005.

TA-W-59,069; Renee's Manufacturing, Inc., San Francisco, CA: March 21, 2005.

The following certifications have been issued. The requirements of (a)(2)(B) (shift in production) of section 222 and section 246(a)(3)(A)(ii) of the Trade Act have been met.

TA-W-58,894A; Russell Corporation, Atlanta, GA: February 22, 2005.

TA-W-58,894B; Cross Creek Apparel, Mt. Airy, NC: February 22, 2005.

TA-W-58,930; CTB McGraw Hill, LLC, On-Site Lease Workers of Kelly Services, Inc., Monterey, CA: February 27, 2005.

TA-W-59,072; Point Technologies, Div. of American Medical Instruments, Leased Workers of Corestaff, etc., Boulder, CO: March 21, 2005.

TA-W-59,098; York, A Johnson Controls Co., Building Efficiency Div., On-Site Leased Workers of Manpower and JFC Staffing, York, PA: October 31, 2005.

TA-W-59,105; Solo Cup Company, St. Albans, VT: March 28, 2005.

TA-W-59,142; Tenneco, Inc., Clevite-Pullman Division, Milan, OH: March 20, 2005.

TA-W-59,171; Starkey Labs, Microtech & Qualitone, Eden Praire, MN: April 6, 2005.

TA-W-59,191; ADC, On-Site Leased Workers from Aerotek and Adecco, Shakopee, MN: April 11, 2005.

TA-W-59,193; Creative Engineered Polymer Products, LLC, A Subsidiary of Reserve Group, West Alexandria, OH: April 11, 2005.

TA-W-58,809; Henry Pratt Company, Machine Shop and Weld/Paint Shop, Dixon, IL: January 26, 2005.

TA-W-58,954; Kidde Residential and Commercial, Div. of Walter Kidde Portable Equipment, Colorado Springs, CO: March 1, 2005.

The following certification has been issued. The requirement of supplier to a trade certified firm and section 246(a)(3)(A)(ii) of the Trade Act have been met.

None.

The following certification has been issued. The requirement of downstream producer to a trade certified firm and section 246(a)(3)(A)(ii) of the Trade Act have been met.

None.

Negative Determinations for Worker Adjustment Assistance

In the following cases, the investigation revealed that the criteria for eligibility have not been met for the reasons specified.

The investigation revealed that criterion (a)(2)(A)(I.A) and (a)(2)(B)(II.A) (no employment decline) has not been met.

None.

The investigation revealed that criteria (a)(2)(A)(I.B.) (Sales or production, or both, did not decline) and (a)(2)(B)(II.B) (shift in production to a foreign country) have not been met.

TA-W-59,033; BroadBus Technology, Boxborough, MA.

The investigation revealed that criteria (a)(2)(A)(I.C.) (increased imports) and (a)(2)(B)(II.B) (No shift in production to a foreign country) have not been met.

TA-W-58,878; Creative Label, Inc., Martin, TN.

TA-W-58,879; Martin Engraving Corporation, Martin, TN.

TA-W-58,894C; Moving Comfort, Chantilly, VA.

The investigation revealed that criteria (a)(2)(A)(I.C.) (Increased imports and (a)(2)(B)(II.C) (has shifted production to a foreign country) have not been met.

TA-W-58,940; National Envelope, Earth City, MO.

TA-W-59,047; Blumenthal Mills, Marion, SC.

TA-W-59,073; Kordsa, Inc., On-Site Leased Workers of Young Blood, Whiteville, NC.

TA-W-59,119; Naston, Inc., Norcross, GA.

The workers firm does not produce an article as required for certification under section 222 of the Trade Act of 1974.

TA-W-58,986; Ross Acquisition, Inc., dba Galerie Au Chocolat, Wellston, OH.

TA-W-59,051; EIC Corporation, Santa Clara, CA.

The investigation revealed that criteria (2) has not been met. The workers firm (or subdivision) is not a supplier or downstream producer to trade-affected companies.

None.

Affirmative Determinations for Alternative Trade Ajdustment Assistance

In order for the Division of Trade Adjustment Assistance to issue a certification of eligibility to apply for Alternative Trade Adjustment Assistance (ATAA) for older workers, the group eligibility requirements of section 246(a)(3)(A)(ii) of the Trade Act must be met.

The following certifications have been issued; the date following the company name and location of each determination references the impact date for all workers of such determinations.

In the following cases, it has been determined that the requirements of section 246(a)(3)(ii) have been met.

I. Whether a significant number of workers in the workers' firm are 50 years of age or older.

II. Whether the workers in the workers' firm possess skills that are not easily transferable.

III. The competitive conditions within the workers' industry (i.e., conditions within the industry are adverse).

Negative Determinations for Alternative Trade Adjustment Assistance

In order for the Division of Trade Adjustment Assistance to issue a certification of eligibility to apply for Alternative Trade Adjustment Assistance (ATAA) for older workers, the group eligibility requirements of section 246(a)(3)(A)(ii) of the Trade Act must be met.

In the following cases, it has been determined that the requirements of section 246(a)(3)(ii) have not been met for the reasons specified.

Since the workers are denied eligibility to apply for TAA, the workers cannot be certified eligible for ATAA.

TA-W-59,033; BroadBus Technology, Boxborough, MA.

TA-W-58,878; Creative Label, Inc., Martin, TN.

TA-W-58,879; Martin Engraving Corporation, Martin, TN.

TA-W-58,894C; Moving Comfort, Chantilly, VA.

TA-W-58,940; National Envelope, Earth City, MO.

TA-W-59,047; Blumenthal Mills, Marion, SC.

TA-W-59,073; Kordsa, Inc., On-Site Leased Workers of Young Blood, Whiteville, NC.

TA-W-59,119; Naston, Inc., Norcross, GA.

TA-W-58,986; Ross Acquisition, Inc., dba Galerie Au Chocolat, Wellston, OH.

TA-W-59,051; EIC Corporation, Santa Clara, CA.

The Department as determined that criterion (1) of section 246 has not been met. Workers at the firm are 50 years of age or older.

None.

The Department as determined that criterion (2) of section 246 has not been met. Workers at the firm possess skills that are easily transferable.

TA-W-59,184; John F. Turner and Company, Modesto, CA.

TA-W-58,397; J.S. McCarthy Co., Augusta, ME.

TA-W-58,894A; Russell Corporation, Atlanta, GA.

TA-W-59,142; Tenneco, Inc., Clevite-Pullman Division, Milan, OH.

TA-W-59,171; Starkey Labs, Microtech & Qualitone, Eden Praire, MN.

The Department as determined that criterion (3) of section 246 has not been met. Competition conditions within the workers' industry are not adverse.

None.

I hereby certify that the aforementioned determinations were issued during the month of April 2006. Copies of These determinations are available for inspection in Room C-5311, U.S. Department of Labor, 200 Constitution Avenue, NW., Washington, DC 20210 during normal business hours or will be mailed to persons who write to the above address.

Dated: May 1, 2006.
Erica R. Cantor,
Director, Division of Trade Adjustment Assistance.

[FR Doc. E6-7123 Filed 5-9-06; 8:45 am]

BILLING CODE 4510-30-P